NUCLEAR REGULATORY COMMISSION

[Docket No. 50-302; NRC-2011-0301]

Crystal River Unit 3 Nuclear Generating Plant, Application for Amendment to Facility Operating License

AGENCY: Nuclear Regulatory Commission.

ACTION: License amendment application; withdrawal.

SUMMARY: The U.S. Nuclear Regulatory Commission (NRC) is granting the request of Florida Power Corporation (the licensee), through its owner Duke Energy, to withdraw its June 15, 2011, (Agencywide Documents Access and Management System (ADAMS) Accession No. ML112070659), application for proposed amendment to Facility Operating License No. DPR-72 for the Crystal River Unit 3 Nuclear Generating Plant (CR-3), located in Florida, Citrus County. The proposed amendment would have revised the facility operating license and the technical specifications to support operation at an increased core thermal power level.

ADDRESSES: Please refer to Docket ID NRC-2011-0301 when contacting the NRC about the availability of information regarding this document. You may access information related to this document, which the NRC possesses and is publicly available, using any of the following methods:

• Federal Rulemaking Web site: Go to http://www.regulations.gov and search for Docket ID NRC-2011-0301. Address questions about NRC dockets to Carol Gallagher; telephone: 301-492-3668; email: Carol.Gallagher@nrc.gov.

• NRC's ADAMS: You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Siva P. Lingam, Office of Nuclear Reactor Regulation, U.S. Nuclear Regulatory Commission, Washington, DC 20555-0001; telephone: 301-415-1564; email: siva.lingam@nrc.gov.

SUPPLEMENTARY INFORMATION: The NRC is granting the licensee's request to withdraw its June 15, 2011, application for proposed amendment to the CR-3 Facility Operating License No. DPR-72.

The proposed amendment would have increased the licensed core power level for CR-3 from 2609 megawatts thermal (MWt) to 3014 MWt. The increase in core thermal power would have been approximately 15.5 percent over the current licensed core thermal power level and was categorized as an extended power uprate.

The Commission had previously issued a Notice of Consideration of Issuance of Amendment published in the Federal Register on January 11, 2012 (77 FR 1743), and a Notice of Consideration of Issuance of draft environmental assessment related to the proposed amendment published in the Federal Register on January 16, 2013 (78 FR 3458). However, by letter dated February 7, 2013 (ADAMS Accession No. ML13043A027), the licensee withdrew the proposed change based on the determination to retire CR-3 due to economic disadvantages to fix the containment delamination that occurred during the steam generators replacement refueling outage. As a result, all the comments received on the above Federal Register notices will not be resolved and the environmental assessment will not be finalized.

For further details with respect to this action, see the application for amendment dated June 15, 2011, and the licensee's letter dated February 7, 2013, which withdrew the application for license amendment.

Dated at Rockville, Maryland, this 7th day of March 2013.
For the Nuclear Regulatory Commission.
Siva P. Lingam,
Project Manager, Plant Licensing Branch II-2, Division of Operating Reactor Licensing, Office of Nuclear Reactor Regulation.

[FR Doc. 2013-05907 Filed 3-13-13; 8:45 am]

BILLING CODE 7590-01-P